DEPARTMENT OF COMMERCE

International Trade Administration

Initiation of Antidumping and Countervailing Duty Administrative Reviews and Requests for Revocation in Part

AGENCY: Import Administration, International Trade Administration, Department of Commerce.

SUMMARY: The Department of Commerce (“the Department”) has received requests to conduct administrative reviews of various antidumping and countervailing duty orders and findings with May anniversary dates. In accordance with the Department's regulations, we are initiating those administrative reviews. The Department also received requests to revoke two antidumping duty orders in part.

DATES: Effective Date: June 24, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with May anniversary dates. The Department also received requests to revoke in part the antidumping duty orders on Ball Bearings and Parts Thereof from Japan for three exporters and from the United Kingdom for one exporter.

Notice of No Sales

Under 19 CFR 351.213(d)(3), the Department may rescind a review where there are no exports, sales, or entries of subject merchandise during the respective period of review (“POR”) listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate-rate criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://ia.ita.doc.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://ia.ita.doc.gov/nme/nme-sep-rate.html on the date of publication of this Federal Register notice. In responding to the Separate Rate Application, refer to the instructions contained in the application. Separate Rate Applications are due to the Department no later than 60 calendar days of publication of this Federal Register notice. The deadline and requirement for submitting a Separate Rate Application apply equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently completed segment of the proceeding in which they participated.

² Only changes to the official company name, rather than trade names, need to be addressed via a Separate Rate Application. Information regarding new trade names may be submitted via a Separate Rate Application.

Initiation of Reviews

In accordance with 19 CFR 351.221(c)(1)(i), we are initiating administrative reviews of the following antidumping and countervailing duty orders and findings. We intend to issue the final results of these reviews not later than May 31, 2010.

| Period to be reviewed
Antidumping Duty Proceedings
BELGIUM: Stainless Steel Plate in Coils, A-423-808 | 5/1/08-4/30/09
ArcelorMittal Stainless Belgium N.V. (formerly known as Ugine & ALZ Belgium N.V.)
FRANCE: Ball Bearings and Parts Thereof, A-427-201 | 5/1/08-4/30/09
Microturbo SAS
SKF France, S.A., SKF Aerospace France S.A.S., SNFA S.A.S.
SNR Roulements
GERMANY: Ball Bearings and Parts Thereof, A-428-201 | 5/1/08-4/30/09
Gebruder Reinfurt GmbH & Co. KG (GRW)
myonic GmbH
RWG Frankenjura-Industrie Flugwerklager GmbH
Schaeffler KG
SKF GmbH
SNR Walzlager GmbH
INDIA: Certain Welded Carbon Steel Standard Pipes and Tubes, A-533-502 | 5/1/08-4/30/09
Lloyds Metals & Engineers Limited
Lloyds Steel Industries Limited
Jindal Industries Ltd.
Maharashtra Seamless Limited
Jindal Pipes Limited
Makalu Trading Pvt. Ltd.
Ratnamani Metals Tubes Ltd.
Universal Tube and Plastic Ind.
Ushdev International Ltd.
Uttam Galva Steels Ltd.
ITALY: Ball Bearings and Parts Thereof, A-475-201 | 5/1/08-4/30/09
Schaeffler Italia s.r.l, and WPB Water Pump Bearing GmbH & Co. KG
SKF Industrie S.p.A., SKF RIV-SKF Officine di Villar Perosa S.p.A., RFT S.p.A., and Somecat S.p.A.
JAPAN: Ball Bearings and Parts Thereof, A-588-201 | 5/1/08-4/30/09
Asahi Seiko Co., Ltd.
Aisin Seiki Company Ltd.
Japanese Aero Engine Bearings Corporation
JTEKT Corporation (formerly known as Koyo Seiko Co., Ltd.)
Makino Milling Machine Company Limited
Mazda Motor Corporation
Nachi-Fujikoshi Corporation
Nippon Pillow Block Co., Ltd.
Nissan Motor Company, Ltd.
NSK Ltd.
NTN Corporation
Sapporo Precision, Inc., and Tokyo Precision, Inc.
Univance Corporation
Yamazaki Mazk Trading Corporation
REPUBLIC OF KOREA: Certain Polyester Staple Fiber, A-580-839 | 5/1/08-4/30/09
Huvis Corporation
Saehan Industries, Inc.
TAIWAN: Certain Circular Welded Carbon Steel Pipes and Tubes, A-583-008 | 5/1/08-4/30/09
Yieh Phui Enterprise Co., Ltd.
TAIWAN: Polyester Staple Fiber, A-583-833 | 5/1/08-4/30/09
Far Eastern Textiles Ltd.
Nan Ya Plastics Corporation
THE PEOPLE'S REPUBLIC OF CHINA: Pure Magnesium ³, A-570-832 | 5/1/08-4/30/09
Tianjin Magnesium International, Ltd.
Pan Asia Magnesium Co., Ltd.
Tianjin Xianghaiqi Resources Import & Export Trade Co., Ltd.
TURKEY: Certain Welded Carbon Steel Pipe and Tube, A-489-501 | 5/1/08-4/30/09
Borusan Group
Borusan Mannesmann Boru Sanayi ve Ticaret A.S.
Borusan Birlesik Boru Fabrikalari San ve Tic.
Borusan Istikbal Ticaret T.A.S.
Boruson Holding A.S.
Boruson Gemlik Boru Tesisleri A.S.
Borusan Ihracat Ithalat ve Dagitim A.S.
Borusan Ithicat ve Dagitim A.S.
Tubeco Pipe and Steel Corporation
Toscelik Profil ve Sac Endustrisi A.S.
Toscelik Metal Ticaret A.S.
Tosyali Dis Ticaret A.S.
Yucel Group
Yucel Boru ve Profil Endustrisi A.S.
Cayirova Boru Sanayi ve Ticaret A.S.
Yucel Boru Ithalat-Ithracat ve Pazarlama A.S.
Erbosan, Erciyas Boru Sanayi ve Ticaret A.S.
TURKEY: Light-Walled Rectangular Pipe and Tube, A-489-815 | 1/30/08-4/30/09
Toscelik Profil ve Sac Endustrisi A.S.
Tosyali Dis Ticaret A.S.
UNITED KINGDOM: Ball Bearings and Parts Thereof, A-412-201 | 5/1/08-4/30/09
The Barden Corporation (U.K.) Limited and Schaeffler (U.K.) Limited
NSK Bearings Europe Ltd.
SKF (UK) Limited SNFA Operations and SKF (UK) Limited Stonehouse Operations
Timken UK Ltd. and Timken Aerospace UK Ltd.
Countervailing Duty Proceedings
BELGIUM: Stainless Steel Plate in Coils, C-423-809 | 1/1/08-12/31/08
ArcelorMittal Stainless Belgium N.V. (formerly known as (Ugine & ALZ Belgium N.V.)
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

³ If one of the above-named companies does not qualify for a separate rate, all other exporters of Pure Magnesium from the People's Republic of China (“PRC”) who have not qualified for a separate rate are deemed to be covered by this review as part of the single PRC entity of which the named exporters are a part.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 17, 2009.
John M. Andersen,
Acting Deputy Assistant Secretary for Antidumping and Countervailing Duty Operations.

[FR Doc. E9-14883 Filed 6-23-09; 8:45 am]

BILLING CODE 3510-DS-P